DEPARTMENT OF HOMELAND SECURITY

Coast Guard

33 CFR Part 100

[Docket No. USCG-2025-0733]

Special Local Regulations; Marine Events Within the USCG East District (Formerly the Fifth Coast Guard District)—Manasquan, NJ

AGENCY: Coast Guard, DHS.

ACTION: Notification of enforcement of regulation.

SUMMARY: The Coast Guard will enforce special local regulations for the Manasquan Inlet Intracoastal Tug on October 12, 2025, or on a rain date of October 18, 2025, to provide for the safety of life on navigable waterways during this event. Our regulation for marine events within the USCG East District (formerly the Fifth Coast Guard District) identifies the regulated area for this event in Manasquan, NJ and Point Pleasant Beach, NJ. During the enforcement periods, the operator of any vessel in the regulated area must comply with directions from the Patrol Commander or any Official Patrol displaying a Coast Guard ensign.

DATES: The regulations in Table 1 to paragraph (i)(1) of 33 CFR 100.501 for the event “Manasquan Inlet Intracoastal Tug” will be enforced from 12 noon through 2:30 p.m. on October 12, 2025. If the event is postponed due to weather, these regulations will be enforced during those same times on October 18, 2025.

FOR FURTHER INFORMATION CONTACT: If you have questions about this notification of enforcement, call or email Petty Officer Dominick Dobridge, U.S. Coast Guard, Sector Delaware Bay, Waterways Management Division, telephone: 215-271-4902, Email: SecDelBayWWM@uscg.mil.

SUPPLEMENTARY INFORMATION: The Coast Guard will enforce special local regulations in Table 1 to paragraph (i)(1) of 33 CFR 100.501 for the Manasquan Inlet Intracoastal Tug regulated area from 12 noon to 2:30 p.m. on October 12, 2025, or on a rain date of October 18, 2025, during the same times. This action is being taken to provide for the safety of life on navigable waterways during this event. Our regulation for marine events within the USCG East District (formerly the Fifth Coast Guard District), § 100.501, specifies the location of the regulated area for the Manasquan Inlet Intracoastal Tug, which encompasses portions of the Manasquan Inlet. As reflected in § 100.501(d)(2), during the enforcement periods, the operator of a vessel in the regulated area must comply with directions from the Patrol Commander or any Official Patrol displaying a Coast Guard ensign.

In addition to this notification of enforcement in the Federal Register, the Coast Guard plans to provide notification of this enforcement period via the Local Notice to Mariners, and marine information broadcasts.

Dated: Sept 17, 2025.
Kate F. Higgins-Bloom,
Captain, U.S. Coast Guard, Captain of the Port, Sector Delaware Bay.

[FR Doc. 2025-18378 Filed 9-22-25; 8:45 am]

BILLING CODE 9110-04-P